DEPARTMENT OF THE INTERIOR

National Park Service

Final Environmental Impact Statement/General Management Plan, Whiskeytown Unit, Shasta -Trinity- Whiskeytown National Recreation Area, Shasta County, California; Notice of Approval of Record of Decision

SUMMARY: Pursuant to 102(2)(C) of the National Environmental Policy Act of 1969 (Pub. L.91-190, as amended) and the regulations promulgated by the Council on Environmental Quality (40 CFR 1505.2), the Department of the Interior, National Park Service has prepared and approved a Record of Decision for the Final Environmental Impact Statement/General Management Plan for Whiskeytown National Recreation Area. The no-action period was initiated September 17, 1999, with the U.S. Environmental Protection Agency's Federal Register notification of the filing of the Final Environmental Impact Statement (FEIS).

Decision

As soon as practical the National Park Service will begin to implement the General Management Plan described as the Proposed Action (Alternative C) contained in the FEIS. This alternative was deemed to be the environmentally preferred alternative. This course of action and three alternatives were identified and analyzed in the Final and Draft Environmental Impact Statements (the latter was distributed on September 8, 1998). The full range of foreseeable environmental consequences were assessed, and appropriate mitigation measures identified.

Copies

Interested parties desiring to review the Record of Decision may obtain a copy by contacting the Superintendent, Whiskeytown National Recreation Area, P.O. Box 188, Whiskeytown, California 96095; or via telephone request at (530) 242-3400.

Dated: March 8, 2000.
John J. Reynolds,
Regional Director, Pacific West Region.

[FR Doc. 00-6912 Filed 3-20-00; 8:45 am]

BILLING CODE 4310-70-P